DEPARTMENT OF COMMERCE

Foreign-Trade Zones Board

Order No. 1388

Reorganization and Expansion of Foreign-Trade Zone 15, Kansas City, Missouri, Area

Pursuant to its authority under the Foreign-Trade Zones Act of June 18, 1934, as amended (19 U.S.C. 81a-81u), the Foreign-Trade Zones Board (the Board) adopts the following Order:

Whereas, the Greater Kansas City Foreign-Trade Zone, Inc., grantee of Foreign-Trade Zone 15, submitted an application to the Board for authority to formally delete Site 8A, Site 8B and Site 8C from the zone project and to include a new site in Chillicothe, Missouri (new Site 8, 19.57 acres), adjacent to the Kansas City Customs port of entry (FTZ Docket 27-2004; filed 6/18/04);

Whereas, notice inviting public comment was given in the Federal Register (69 FR 35581, 6/25/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 15 is approved, subject to the Act and the Board's regulations, including Section 400.28, and subject to the Board's standard 2,000-acre activation limit for the overall zone project, and further subject to a five-year time limit (to April 30, 2010) for the new site with extension available upon review.

Signed at Washington, DC, this 20th day of April 2005.

Joseph A. Spetrini,
Acting Assistant Secretary of Commerce for Import Administration, Alternate Chairman Foreign-Trade Zones Board.
Attest:
Dennis Puccinelli,
Executive Secretary.

[FR Doc. 05-8701 Filed 4-29-05; 8:45 am]

BILLING CODE 3510-DS-S